DEPARTMENT OF TRANSPORTATION

Federal Motor Carrier Safety Administration

[Docket No. FMCSA-2020-0044]

Parts and Accessories Necessary for Safe Operation; Application for an Exemption From K & L Trucking, Inc.

AGENCY: Federal Motor Carrier Safety Administration (FMCSA), DOT.

ACTION: Notice of final disposition; grant of exemption.

SUMMARY: The Federal Motor Carrier Safety Administration (FMCSA) announces its decision to grant K & L Trucking, Inc.'s (K & L) application for a limited 5-year exemption to allow the company to secure large metal coils to its trailers using a cargo securement system that differs from that required by the Federal Motor Carrier Safety Regulations (FMCSRs). The Agency has determined that granting the exemption would likely achieve a level of safety equivalent to or greater than the level of safety provided by the regulation.

DATES: This exemption is effective December 4, 2020 and expires on December 4, 2025.

FOR FURTHER INFORMATION CONTACT: Mr. Luke Loy, Vehicle and Roadside Operations Division, Office of Carrier, Driver, and Vehicle Safety, MC-PSV, (202) 366-0676, Federal Motor Carrier Safety Administration, 1200 New Jersey Avenue SE, Washington, DC 20590-0001.

Docket: For access to the docket to read background documents or comments submitted to notice requesting public comments on the exemption application, go to www.regulations.gov at any time or visit Dockets Operations, Room W12-140 on the ground level of the West Building, 1200 New Jersey Avenue SE, Washington, DC, between 9 a.m. and 5 p.m., ET, Monday through Friday, except Federal holidays. To be sure someone is there to help you, please call (202) 366-9317 or (202) 366-9826 before visiting Docket Operations. The on-line Federal document management system is available 24 hours each day, 365 days each year. The docket number is listed at the beginning of this notice.

SUPPLEMENTARY INFORMATION:

Background

FMCSA has authority under 49 U.S.C. 31136(e) and 31315 to grant exemptions from certain parts of the FMCSRs. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

K & L's Application for Exemption

K & L applied for an exemption from 49 CFR 393.120(c) to allow the carrier to secure large metal coils to its trailers using a cargo securement system that differs from that required by the FMCSRs. A copy of the application is included in the docket referenced at the beginning of this notice.

K & L Trucking is a corporation located at 490 West Main Street, Delta, Ohio 43515. K & L's business consists entirely of transporting metal coils from North Star Blue Scope Steel, LLC, located at 6767 County Road 9, Delta, Ohio 43515, to Fulton County Processing, located at 7800 Ohio-109, Delta, Ohio 43515. The two businesses are less than 2 miles apart, and K & L's trucks never travel faster than 30 miles per hour on the road, as the drive is simply too short for the trucks to accelerate to a higher speed.

Section 393.120(c) of the FMCSRs requires that metal coils that weigh more than 5,000 pounds (either individually or grouped together) and transported with eyes crosswise to be secured using (1) a means (e.g., timbers, chocks or wedges, a cradle, etc.) to prevent the coil from rolling and to support the coil off the deck, (2) at least one tiedown through its eye restricting against forward motion, and (3) at least one tiedown through its eye restricting against rearward motion. Attaching tiedowns diagonally through the eye of a coil to form an X-pattern when viewed from above the vehicle is prohibited.

K & L seeks an exemption to use an alternative securement system consisting of a customized metal carrier affixed to the bed of its trailers and the use of a single large cargo securement strap. The coil carriers weigh 2,500 pounds each and are attached to the bed with sixteen ⅝ inch, Grade 8 bolts with a working load limit of 27,611 pounds each. In total, the carrier and bolts have a working load limit over 500,000 pounds. Rather than using four chains to prevent the coil from moving forward or backwards, K & L uses a large single, two-ply, nylon-Kevlar tiedown strap with a working load limit of 44,800 pounds through the eye of the coil and secures the coil to the metal carrier.

K & L states that the alternative cargo securement system will not have an adverse impact on safety, and that adherence to the terms and conditions of the exemption would likely achieve a level of safety equivalent to or greater than the level of safety achieved without the exemption.

Comments

FMCSA published a notice of the application in the Federal Register on May 14, 2020 and asked for public comment (85 FR 29018). The Agency received one comment, from Mr. Bruce Grimm. Mr. Grimm stated that the proposed cargo securement technique proposed by K & L may be practical if the strength of the load securement is consistently monitored by the motor carrier, and stated that the heavy-duty load securement straps proposed to be used by K & L have been successfully used in other transportation cargo securement applications. Mr. Grimm wrote that these cargo securement straps are not immune to damage and may be subject to deterioration due to ultraviolet light.

FMCSA Decision

The FMCSA has evaluated the K & L exemption application, and the comment received. The Agency believes that granting the temporary exemption to allow K & L Trucking to transport metal coils using an alternative securement system consisting of a customized metal carrier affixed to the bed of its trailers and the use of a single large cargo securement strap will likely provide a level of safety that is equivalent to, or greater than, the level of safety achieved without the exemption.

FMCSA acknowledges the concerns of commenter Mr. Bruce Grimm that the synthetic cargo securement strap and metal coil carrier proposed to be used by K & L must be inspected frequently to identify any damage that might affect the working load limit of the metal coil carrier or the single large synthetic cargo strap. FMCSA believes that the current FMCSRs at section 393.104(b) which requires that “all tiedowns and cargo securement systems, parts and components used to secure cargo must be in proper working order when used to perform that function with no damaged or weakened components, such as, but not limited to, cracks or cuts that will adversely affect their performance for cargo securement purposes, including reducing the working load limit,” ensures that the carrier will be effective in monitoring the condition of the cargo securement system. FMCSA believes that the alternative cargo securement technique of metal coil carrier and the single large synthetic cargo strap is likely to provide a level of safety that is equivalent to, or greater than, the level of safety achieved without the exemption.

Terms and Conditions for the Exemption

The Agency hereby grants the exemption for a 5-year period, beginning December 4, 2020 and ending December 4, 2025. During the temporary exemption period, K & L will be allowed to use an alternative securement system consisting of a customized metal carrier affixed to the bed of its trailers and the use of a single large cargo securement strap. The coil carriers weigh 2,500 pounds each and are attached to the bed with sixteen ⅝ inch, Grade 8 bolts with a working load limit of 27,611 pounds each, and a large single, two-ply, nylon-Kevlar tiedown strap with a working load limit of 44,800 pounds through the eye of the coil to secures the coil to the metal carrier for the limited transport from North Star Blue Scope Steel, LLC, located at 6767 County Road 9, Delta, Ohio 43515, to Fulton County Processing, located at 7800 Ohio-109, Delta, Ohio 43515.

The exemption will be valid for 5 years unless rescinded earlier by FMCSA. The exemption will be rescinded if: (1) K & L fails to comply with the terms and conditions of the exemption; (2) the exemption has resulted in a lower level of safety than was maintained before it was granted; or (3) continuation of the exemption would not be consistent with the goals and objectives of 49 U.S.C. 31136(e) and 31315(b).

Interested parties possessing information that would demonstrate that the cargo securement system used by K & L to secure metal coils is not achieving the requisite statutory level of safety should immediately notify FMCSA. The Agency will evaluate any such information and, if safety is being compromised or if the continuation of the exemption is not consistent with 49 U.S.C. 31136(e) and 31315(b), will take immediate steps to revoke the exemption.

Preemption

In accordance with 49 U.S.C. 31313(d), as implemented by 49 CFR 381.600, during the period this exemption is in effect, no State shall enforce any law or regulation applicable to interstate commerce that conflicts with or is inconsistent with this exemption. States may, but are not required to, adopt the same exemption with respect to operations in intrastate commerce.

James W. Deck,
Deputy Administrator.

[FR Doc. 2020-26669 Filed 12-3-20; 8:45 am]

BILLING CODE 4910-EX-P